DEPARTMENT OF HEALTH AND HUMAN SERVICES

National Institutes of Health

Office of the Director, National Institutes of Health; Notice of Meeting

Pursuant to section 10(d) of the Federal Advisory Committee Act, as amended (5 U.S.C. Appendix 2), notice is hereby given of a meeting of the Secretary's Advisory Committee on Xenotransplantation.

The meeting will be open to the public as indicated below, with attendance limited to space available. Individuals who plan to attend and need special assistance, such as sign language interpretation or other reasonable accommodations, should notify the Contact Person listed below in advance of the meeting.

The meeting will be closed to the public in accordance with the provisions set forth in section 552b(c)(4), Title 5 U.S.C., as amended because disclosure of such information is likely to disclose privileged or confidential trade secrets and commercial information.

Name of Committee: Secretary's Advisory Committee on Xenotransplantation.

Date: November 29-30, 2001.

Open: November 29, 2001; 8:30 a.m. to 5:30 p.m.

Agenda: Presentations and discussion of the development of a national xenotransplantation database and biological archive and updates on recent meetings and scientific advances in xenotransplantation. Time will be allotted to concurrent breakout sessions and plenary progress reports of the SACX Working Groups on informed consent issues and on the state of the science of xenotransplantation. There will also be opportunity for public commentary.

Place: Sheraton Columbia Hotel, 10207 Wincopin Circle, Columbia, MD 21044.

Open: November 30, 2001, 8:30 a.m. to 10:30 a.m.

Agenda: Overviews of clinical xenotransplantation trials and retroviral screening practices and findings, and background on xenotransplantation products that involve ex vivo contact with well characterized cell lines.

Place: Sheraton Columbia Hotel, 10207 Wincopin Circle, Columbia, MD 21044.

Closed: November 30, 2001, 10:30 a.m. to 2 p.m.

Agenda: Committee will be briefed by the Food and Drug Administration on specific confidential information concerning clinical trials in the area of xenotransplantation.

Place: Sheraton Columbia Hotel, 10207 Wincopin Circle, Columbia, MD 21044.

Contact Person: Mary Groesch, Ph.D., Executive Director, Secretary's Advisory Committee on Xenotransplantation, Office of Science Policy, Rockledge I, Room 750, Bethesda, MD 20892, 301-496-9838.

Information is also available on the Office's home page: www4.od.nih.gov/oba/xenomtg.htm, where an agenda and any additional information for the meeting will be posted when available.

(Catalogue of Federal Domestic Assistance Program Nos. 93.14, Intramural Research Training Award; 93.187, Undergraduate Scholarship Program for Individuals from Disadvantaged Backgrounds; 93.22, Clinical Research Loan Repayment Program for Individuals from Disadvantaged Backgrounds; 93.232, Loan Repayment Program for Research Generally; 93.39, Academic Research Enhancement Award; 93.936, NIH Acquired Immunodeficiency Syndrome Research Loan Repayment Program, National Institutes of Health, HHS)

Dated: November 1, 2001.
LaVerne Y. Stringfield,
Director, Office of Federal Advisory Committee Policy.

[FR Doc. 01-28311 Filed 11-9-01; 8:45 am]

BILLING CODE 4140-01-M